DEPARTMENT OF DEFENSE

Department of the Navy

Meeting of the Secretary of the Navy Advisory Panel

AGENCY: Department of the Navy, DoD.

ACTION: Notice of open meeting.

SUMMARY: The Secretary of the Navy (SECNAV) Advisory Panel will meet to review the findings and recommendations from the Panel's Report on ways to establish a culture of innovation in the Department of the Navy.

DATES: The meeting will be held on Thursday, March 17, 2016, from 12:30 p.m. to 1:30 p.m.

ADDRESSES: The meeting will be held at the Pentagon, in room 4B746, 1000 Navy Pentagon, Washington, DC 20350-1000.

Building Access: Public access is limited due to the Pentagon Security requirements. Any individual wishing to attend this meeting should contact Ms. Cassandra Dean at 703-697-2386 no later than March 3, 2016. Members of the public who do not have Pentagon access will be required to provide Name, Date of Birth and Social Security Number by March 3, 2016, in order to obtain visitor's clearance. Public transportation is recommended as public parking is not available. Members of the public wishing to attend this meeting must enter through the Pentagon's Metro Entrance with sufficient time to complete security screening between 11:45 a.m. and 12:00 p.m., where they will need two forms of identification in order to receive a visitor badge and meet their escort. Members will then be escorted to Room 4B746 to attend the meeting of the Advisory Panel. Members of the public must remain with the designated escort at all times while in the Pentagon. After the meeting is adjourned, members of the public will be escorted back to the Pentagon Metro Entrance.

FOR FURTHER INFORMATION CONTACT: Commander Randall Biggs, SECNAV Advisory Panel, 1000 Navy Pentagon, Washington, DC 20350-1000, 703-695-3042.

SUPPLEMENTARY INFORMATION:

Meeting Agenda

12:40 p.m.-1:00 p.m.—Panel Report

1:00 p.m.-1:10 p.m.—Public Comment (if time permits; written public comments are encouraged)

1:15 p.m.-1:30 p.m.—Panel Deliberations

Individuals or interested groups may submit written statements for consideration by the SECNAV Advisory Panel at any time or in response to the agenda of a schedule meeting. If the written statement is in response to the agenda mentioned in this meeting notice, it must be received at least 5 business days prior to the meeting in question. All written comments should be submitted via email to SNAP@Navy.mil. The DFO will review all timely submissions with the SECNAV Advisory Panel before the meeting that is the subject of this notice. All requests can be submitted to the Designated Federal Officer (DFO) at the address detailed below.

To contact the DFO write to: Deputy Under Secretary of the Navy, (Policy), Secretary of the Navy Advisory Panel, Captain Christopher Rodeman, Designated Federal Officer, 1000 Navy Pentagon, Washington, DC 20350-1000.

Dated: February 17, 2016.
N.A. Hagerty-Ford,
Commander, Judge Advocate General's Corps, U.S. Navy, Federal Register Liaison Officer.

[FR Doc. 2016-04554 Filed 3-1-16; 8:45 am]

BILLING CODE 3810-FF-P